DEPARTMENT OF TRANSPORTATION

Federal Motor Carrier Safety Administration

[Docket No. FMCSA-2019-0159]

Parts and Accessories Necessary for Safe Operation; Application for Renewal of Exemption; Vision Systems North America, Inc.

AGENCY: Federal Motor Carrier Safety Administration (FMCSA), Department of Transportation (DOT).

ACTION: Notice of application for renewal of exemption; request for comments.

SUMMARY: FMCSA announces that it has received an application from Vision Systems North America, Inc. (VSNA) for a renewal of its exemption allowing motor carriers to operate commercial motor vehicles (CMVs) with the company's Smart-Vision high-definition camera monitoring system (Smart-Vision) installed as an alternative to the two rear-vision mirrors required by the Federal Motor Carrier Safety Regulations (FMCSRs). VSNA currently holds an exemption for the period January 15, 2020, through January 15, 2025, and requests a five-year renewal of the exemption. FMCSA requests public comment on VSNA's request for exemption.

DATES: Comments must be received on or before November 18, 2024.

ADDRESSES: You may submit comments identified by docket number FMCSA-2019-0159 using any of the following methods:

• Federal eRulemaking Portal: Go to https://www.regulations.gov/docket/FMCSA-2019-0159/document. Follow the online instructions for submitting comments.

• Mail: Dockets Operations, U.S. Department of Transportation, 1200 New Jersey Avenue SE, West Building, Ground Floor, Washington, DC 20590-0001.

• Hand Delivery or Courier: Dockets Operations, U.S. Department of Transportation, 1200 New Jersey Avenue SE, West Building, Ground Floor, Washington, DC 20590-0001, between 9 a.m. and 5 p.m. ET, Monday through Friday, except Federal holidays.

• Fax: (202) 493-2251.

FOR FURTHER INFORMATION CONTACT: Mr. David Sutula, Chief, Vehicle and Roadside Operations Division, Office of Carrier, Driver, and Vehicle Safety, FMCSA, 1200 New Jersey Avenue SE, Washington, DC 20590-0001; (202) 366-9209; MCPSV@dot.gov. If you have questions on viewing or submitting material to the docket, call Dockets Operations at (202) 366-9826.

SUPPLEMENTARY INFORMATION:

I. Public Participation and Request for Comments

A. Submitting Comments

If you submit a comment, please include the docket number for this notice (FMCSA-2019-0159), indicate the specific section of this document to which the comment applies, and provide a reason for suggestions or recommendations. You may submit your comments and material online or by fax, mail, or hand delivery, but please use only one of these means. FMCSA recommends that you include your name and a mailing address, an email address, or a phone number in the body of your document so the Agency can contact you if it has questions regarding your submission.

To submit your comment online, go to https://www.regulations.gov/docket/FMCSA-2019-0159/document, click on this notice, click “Comment,” and type your comment into the text box on the following screen. Choose whether you are submitting your comment as an individual or on behalf of a third party and then submit.

If you submit your comments by mail or hand delivery, submit them in an unbound format, no larger than 8 ½ by 11 inches, suitable for copying and electronic filing.

If you submit comments by mail and would like to know that they reached the facility, please enclose a stamped, self-addressed postcard or envelope.

FMCSA will consider all comments and material received during the comment period. Comments received after the comment closing date will be filed in the public docket and will be considered to the extent practicable.

Confidential Business Information (CBI)

CBI is commercial or financial information that is both customarily and actually treated as private by its owner. Under the Freedom of Information Act (5 U.S.C. 552), CBI is exempt from public disclosure. If your comments responsive to the notice contain commercial or financial information that is customarily treated as private, that you actually treat as private, and that is relevant or responsive to the notice, it is important that you clearly designate the submitted comments as CBI. Please mark each page of your submission that constitutes CBI as “PROPIN” to indicate it contains proprietary information. FMCSA will treat such marked submissions as confidential under the Freedom of Information Act, and they will not be placed in the public docket of the notice. Submissions containing CBI should be sent to Brian Dahlin, Chief, Regulatory Evaluation Division, Office of Policy, FMCSA, 1200 New Jersey Avenue SE, Washington, DC 20590-0001 or via email at brian.g.dahlin@dot.gov. At this time, you need not send a duplicate hardcopy of your electronic CBI submissions to FMCSA headquarters. Any comments FMCSA receives not specifically designated as CBI will be placed in the public docket for this notice.

B. Viewing Comments and Documents

To view any documents mentioned as being available in the docket, go to https://www.regulations.gov/docket/FMCSA-2019-0159/document and choose the document to review. To view comments, click this notice, then click “Browse Comments.” If you do not have access to the internet, you may view the docket online by visiting Dockets Operations on the ground floor of the DOT West Building, 1200 New Jersey Avenue SE, Washington, DC 20590-0001, between 9 a.m. and 5 p.m. ET, Monday through Friday, except Federal holidays. To be sure someone is there to help you, please call (202) 366-9317 or (202) 366-9826 before visiting Dockets Operations.

C. Privacy

In accordance with 49 U.S.C. 31315(b)(6), DOT solicits comments from the public to better inform its exemption process. DOT posts these comments, including any personal information the commenter provides, to www.regulations.gov as described in the system of records notice DOT/ALL 14 (Federal Docket Management System (FDMS)), which can be reviewed under the “Department Wide System of Records Notices” at https://www.transportation.gov/individuals/privacy/privacy-act-system-records-notices. The comments are posted without edit and are searchable by the name of the submitter.

II. Legal Basis

FMCSA has authority under 49 U.S.C. 31136(e) and 31315(b)(2) and 49 CFR 381.300(b) to renew an exemption from the FMCSRs for subsequent 5-year periods if it finds that such exemption would likely maintain a level of safety that is equivalent to, or greater than, the level that would be achieved by the current regulation (49 CFR 381.305(a)). VSNA has requested a 5-year extension of its current exemption.

III. Background

Current Regulatory Requirements

Section 393.80(a) of the FMCSRs requires that each bus, truck, and truck tractor be equipped with two rear-vision mirrors, one at each side. The mirrors must be positioned to reflect to the driver a view of the highway to the rear and the area along both sides of the CMV. Section 393.80(a) also requires that the National Highway Traffic Safety Administration's standard for mirrors on motor vehicles in Federal Motor Vehicle Safety Standard (FMVSS) No. 111 be met. Paragraph S7.1 of FMVSS No. 111 provides requirements for mirrors on multipurpose passenger vehicles and trucks with a gross vehicle weight rating (GVWR) greater than 4,536 kg and less than 11,340 kg and each bus, other than a school bus, with a GVWR of more than 4,536 kg. Paragraph S8.1 provides requirements for mirrors on multipurpose passenger vehicles and trucks with a GVWR of 11,340 kg or more.

Original Exemption

In its original exemption application, VSNA noted that the Smart-Vision system consists of multiple digital cameras firmly mounted high on the exterior of the vehicle, enclosed in an aerodynamic package that provides both environmental protection for the cameras and a mounting location for optimal visibility. Each camera has proprietary video processing software that presents a clear, high-definition image to the driver by means of a monitor firmly mounted to each A-pillar of the CMV, i.e., the structural member between the windshield and door of the cab. VSNA explained that attaching the monitors to the A-pillars avoids the creation of incremental blind spots while eliminating the blind spots associated with conventional mirrors. VSNA stated that its Smart-Vision system meets or exceeds the visibility requirements provided in FMVSS No. 111 based on the following factors:

• Increased field of view (FOV) when compared to conventional mirrors—The Smart-Vision system enables the driver to see (1) vehicles and pedestrians in the “No-Zone,” (2) multiple lanes of traffic and overtaking vehicles that are entering the commercial vehicle “No-Zone,” (3) tire fires, and (4) loose straps, ropes, or chains when transporting open cargo.

• Increased Image Quality—The Smart-Vision system provides enhanced vision in inclement weather, higher visibility in low light conditions, and filters out dawn and dusk sunlight glare, improving driver visibility.

• Fail-safe design—The Smart-Vision system elements have a fail-safe design due to the independent video processing of multiple camera images, additionally supported by software diagnostics to ensure that “real time images” are displayed and that any unlikely partial failure is clearly identified.

• Reduced Driver Fatigue—The Smart-Vision system results in less lateral head and eye movement by the driver due to the monitor location on the A-pillar, and VSNA believes that this may result in lower levels of driver fatigue after extended driving times.

VSNA believed that mounting the system as described would maintain a level of safety that is equivalent to, or greater than, the level of safety achieved without the exemption.

On January 15, 2020, following notice and consideration of the comments received, FMCSA determined that use of VSNA's Smart-Vision system would likely maintain a level of safety that is equivalent to or greater than the level of safety that would be obtained by complying with § 393.80(a) and granted VSNA's exemption request for a 5-year period (85 FR 2486). In its decision, FMCSA noted that the use of the Smart-Vision system provides CMV drivers with an enhanced field of view when compared to the required rear-vision mirrors because (1) it eliminates the blind spots on both sides of the vehicle created by the required rear-vision mirrors; (2) the multi-camera system expands the field of view compared to the required rear-vision mirrors by an estimated 25 percent; and (3) the system uses high definition cameras and monitors that include features such as color night vision, low light sensitivity, and light and glare reduction that together help provide drivers with improved vision in the field of view when compared to traditional rear-vision mirrors.

FMCSA highlighted that the Smart-Vision system was currently being used in a number of European countries as a legal alternative to the traditional rear-vision mirrors under the requirements of ISO (International Organization for Standardization) 16505:2019. That standard provides minimum safety, ergonomic, and performance requirements for camera monitor systems to replace mandatory inside and outside rearview mirrors for road vehicles. The ISO standard addresses camera monitor systems that will be used in road vehicles to present the required outside information of a specific field of view inside the vehicle. According to VSNA, there were approximately 300 European vehicles certified with the Smart-Vision system.

Additionally, FMCSA pointed out that the Smart-Vision system is designed with a fail-safe mechanism, utilizing independent video processing for multiple camera feeds. In the rare event of a camera failure, the remaining camera images will continue to be displayed, ensuring uninterrupted real-time visuals. The system's proprietary software guarantees continuous image display without delay. Furthermore, the high placement of the camera housing on the vehicle, along with features such as power-folding and breakaway capabilities, minimizes the risk of damage during normal operations.

Finally, FMCSA noted that the FMCSRs impose several operational controls that will help ensure that the Smart-Vision system is functioning properly at all times. Section 396.7 of the FMCSRs, “Unsafe operations forbidden,” prohibits any vehicle from being operated in such a condition as to likely cause an accident or breakdown of the vehicle. Section 392.7(a) requires each CMV driver to satisfy himself/herself that a vehicle is in safe condition before operating the vehicle, which would include ensuring that the rear-vision mirrors (or in this case, the Smart-Vision system)—are in good working order. Similarly, section 396.13(a) of the FMCSRs requires that, before driving a vehicle, a driver must be satisfied that the vehicle is in safe operating condition. If the Smart-Vision system (effectively functioning as the rear vision mirrors) fails during operation, the driver must complete a driver vehicle inspection report at the completion of the workday as required by section 396.11 of the FMCSRs, and the motor carrier must ensure that the defect is corrected.

Application for Renewal of Exemption

In its renewal application, VSNA reiterated its previous statements in support of the original exemption request. Since the exemption was granted in 2020, the Smart-Vision system has been installed on 15,000 vehicles worldwide, logging millions of miles. In North America, approximately 700 CMVs are currently equipped with the Smart-Vision system, and VSNA forecasts that an additional 1,500 CMVs will be equipped with the technology by 2025. A copy of VSNA's request to renew the exemption is available in the docket.

IV. Applicant's Method To Ensure an Equivalent or Greater Level of Safety

VSNA states that its commitment to safety remains unchanged and emphasized that in the five years since the original exemption was granted, the use of Smart-Vision as an alternative to the two rear-vision mirrors required by 49 CFR 393.80(a) has demonstrated a level of safety equivalent to, or greater than, that provided by the regulation.

V. Request for Comments

In accordance with 49 U.S.C. 31315(b), FMCSA requests public comment from all interested persons on VSNA's application for renewal of its exemption from § 393.80. All comments received before the close of business on the comment closing date indicated at the beginning of this notice will be considered and will be available for examination in the docket at the location listed under the Addresses section of this notice. Comments received after the comment closing date will be filed in the public docket and will be considered to the extent practicable. In addition to late comments, FMCSA will also continue to file, in the public docket, relevant information that becomes available after the comment closing date. Interested persons should continue to examine the public docket for new material.

Larry W. Minor,
Associate Administrator for Policy.

[FR Doc. 2024-24102 Filed 10-17-24; 8:45 am]

BILLING CODE 4910-EX-P